DEPARTMENT OF HEALTH AND HUMAN SERVICES

Administration for Community Living

Agency Information Collection Activities; Submission for OMB Review; Comment Request; Funding Opportunity Announcement and Grant Application Template for ACL Discretionary Grant Programs; Correction

AGENCY: Administration for Community Living, HHS.

ACTION: Notice of correction.

SUMMARY: The Administration for Community Living published a proposed collection of information document in the Federal Register on April 26, 2017. (82 FR 19246 and 19247) The Web page link where the proposed Funding Opportunity Announcement and Grant Application Template for ACL Discretionary Grant Programs could be found is no longer functional as of Thursday May 4, 2017, due to an update of the ACL.gov Web site.

FOR FURTHER INFORMATION CONTACT: Mark Snyderman at 202-795-7439 or Mark.Snyderman@acl.hhs.gov.

SUPPLEMENTARY INFORMATION:

Correction

For the remainder of the public comment period through May 26, 2017, the proposed Funding Opportunity Announcement and Grant Application Template for ACL Discretionary Grant Programs can be found at: https://acl.gov/NewsRoom/Index.aspx.

Dated: April 28, 2017.
Daniel P. Berger,
Acting Administrator and Assistant Secretary for Aging.

[FR Doc. 2017-09023 Filed 5-3-17; 8:45 am]

BILLING CODE 4154-01-P